DEPARTMENT OF JUSTICE

Drug Enforcement Administration

Agency Information Collection Activities: Proposed collection; Comment Request

ACTION: 60-day notice of information collection under review: extension of a currently approved collection; U.S. Official Order Forms for Schedules I and II Controlled Substances (ACCOUNTABLE FORMS), Order Form Requisition.

The Department of Justice (DOJ), Drug Enforcement Administration (DEA) has submitted the following information collection request to the Office of Management and Budget (OMB) for review and approval in accordance with the Paperwork Reduction Act of 1995. The proposed information collection is published to obtain comments from the public and affected agencies Comments are encouraged and will be accepted for sixty days until December 17, 2001.

If you have comments, especially on the estimated public burden or associated response time, suggestions, or need a copy of the proposed information collection instrument with instructions or additional information, please contact Patricia Good, 202-307-7297, Chief, Policy and Liaison Section, Office of Diversion Control, Drug Enforcement Administration, Washington, DC 20537.

Written comments and suggestions from the public and affected agencies concerning the proposed collection of information are encouraged. Your comments should address one or more of the following four points.

1. Evaluate whether the proposed collection of information is necessary for the proper performance of the function of the agency/component, including whether the information will have practicaal ulitily;

2. Evaluate the accuracy of the agencies/components estimate of the burden of the proposed collection of information including the validity of the methodlogy and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information

(1) Type of information collection: Extension of a currently approved collection.

(2) The title of the form/collection: U.S. Official Order Forms for Schedules I and II Controlled Substances (ACCOUNTABLE FORMS), Order Form Requisition.

(3) The agency form number, if any, and the applicable component of the Department sponsoring the collection: Form No.: DEA Form 222 and DEA Form 222a Office of Diversion Control, Drug Enforcement Administration, U.S. Department of Justice.

(4) Affected public who will be asked or required to respond, as well as a brief abstract:

Primary: Business or other for-profits.

Other: Individuals or households, Federal Government, and State, Local of Tribal Government.

DEA-222 is used to transfer or purchase Schedule I and II controlled substances and data is needed to provide an audit of transfer and purchase. DEA-222a Requisition Form is used to obtain the DEA-2222 Order Form. Respondents are DEA registrants desiring to handle these controlled substances.

(5) An estimate of the total number of respondents and the amount of time estimated for an average respondent to respond/reply: 89,908 respondents with an average of 17.5 minutes per response.

(6) An estimate of the total public burden (in hours) associated with the collection: 193,508 annual burden hours.

If additional information is required contact: Mr. Robert B. Briggs, Clearance Officer, United States Department of Justice, Information Management and Security Staff, Justice Management Division, United States Department of Justice, Patrick Henry Building, Suite 1600, 601 D Street NW., Washington, DC 20004.

Dated: October 12, 2001.
Robert B. Briggs,
Department Clearance Officer, United States Department of Justice.

[FR Doc. 01-26137 Filed 10-16-01; 8:45 am]

BILLING CODE 4410-09-M